COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds to the Procurement List a product and a service to be provided by nonprofit agencies employing persons who are blind or have other severe disabilities, and deletes from the Procurement List products previously furnished by such agencies.

DATES: Effective Date: 6/14/2010.

ADDRESSES: Committee for Purchase From People Who Are Blind or Severely Disabled, Jefferson Plaza 2, Suite 10800, 1421 Jefferson Davis Highway, Arlington, Virginia 22202-3259.

FOR FURTHER INFORMATION CONTACT: Patricia Briscoe, Telephone: (703) 603-7740, Fax: (703) 603-0655, or e-mail CMTEFedReg@AbilityOne.gov.

SUPPLEMENTARY INFORMATION:

Additions

On 3/12/2010 (75 FR 11863-11864) and 3/26/2010 (75 FR 14575-14576), the Committee for Purchase From People Who Are Blind or Severely Disabled published notices of proposed additions to the Procurement List.

After consideration of the material presented to it concerning capability of qualified nonprofit agencies to provide a product and a service and impact of the additions on the current or most recent contractors, the Committee has determined that the product and service listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will provide a product and a service to the Government.

2. The action will result in authorizing small entities to provide a product and a service to the Government.

3. There are no known regulatory alternatives which would accomplish the objectives of the Javits-Wagner-O'Day Act (41 U.S.C. 46-48c) in connection with a product and a service proposed for addition to the Procurement List.

End of Certification

Accordingly, the following product and service are added to the Procurement List:

Product

NSN: 5970-00-419-3164—Electrical Tape.

NPA: Raleigh Lions Clinic for the Blind, Inc., Raleigh, NC.

Contracting Activity: Defense Logistics Agency, DES DSCR Contracting Services OFC, Richmond, VA.

Coverage: C-List for 100% of the government requirements for the Defense Supply Center Richmond, Richmond, VA.

Service

Service Type/Location: Package Reclamation Service, Defense Depot Warner Georgia (DDWG), Robins Air Force Base, Warner Robins, GA.

NPA: Georgia Industries for the Blind, Bainbridge, GA.

Contracting Activity: Defense Logistics Agency, Defense Distribution Center, New Cumberland, PA.

Deletions

On 3/5/2010 (75 FR 10223-10224) and 3/12/2010 (75 FR 11863-11864), the Committee for Purchase From People Who Are Blind or Severely Disabled published notices of proposed deletions from the Procurement List.

After consideration of the relevant matter presented, the Committee has determined that the products listed below are no longer suitable for procurement by the Federal Government under 41 U.S.C. 46-48c and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 46-48c) in connection with the products deleted from the Procurement List.

End of Certification

Accordingly, the following products are deleted from the Procurement List:

Products

USB Flash Drive, Flip Style

NSN: 7045-01-568-4206—1 GB, no encryption.

NSN: 7045-01-568-4207—1GB, with encryption.

USB Flash Drive with Password Protection

NSN: 7045-01-558-4983—512MB.

NSN: 7045-01-558-4984—USB Flash Drive.

USB Flash Drive with 256-bit AES Encryption

NSN: 7045-01-558-4989—512MB.

NSN: 7045-01-558-4990—USB Flash Drive.

NPA: North Central Sight Services, Inc., Williamsport, PA.

Contracting Activity: GSA/FSS OFC SUP CTR—Paper Products, New York, NY.

Pen, Retractable, Transparent, Cushion Grip “VISTA”

NSN: 7520-01-484-5268.

NPA: Industries of the Blind, Inc., Greensboro, NC.

Contracting Activity: GSA/FSS OFC SUP CTR—Paper Products, New York, NY.

Patricia Briscoe,
Deputy Director, Business Operations.

[FR Doc. 2010-11540 Filed 5-13-10; 8:45 am]

BILLING CODE 6353-01-P